ENVIRONMENTAL PROTECTION AGENCY

40 CFR Parts 70 and 71

[EPA-HQ-OAR-2023-0401; FRL-9118-03-OAR]

RIN 2060-AV61

Clarifying the Scope of “Applicable Requirements” Under State Operating Permit Programs and the Federal Operating Permit Program

AGENCY: Environmental Protection Agency (EPA).

ACTION: Proposed rule; extension of comment period.

SUMMARY: On January 9, 2024, the Environmental Protection Agency (EPA) proposed a rule titled, “Clarifying the Scope of “Applicable Requirements” Under State Operating Permit Programs and the Federal Operating Permit Program.” The EPA has received requests for additional time to review and comment on the proposed rule revisions. The EPA is extending the comment period on the proposed rule that was scheduled to close on March 11, 2024, by an additional 30 days, until April 10, 2024.

DATES: The public comment period for the proposed ruled published in the Federal Register on January 9, 2024 (89 FR 1150), is being extended by 30 days. Written comments must be received on or before April 10, 2024.

ADDRESSES: You may send comments, identified by Docket ID No. EPA-HQ-OAR-2023-0401, by any of the following methods:

• Federal eRulemaking Portal: https://www.regulations.gov (our preferred method). Follow the online instructions for submitting comments.

• Email: a-and-r-docket@epa.gov. Include Docket ID No. EPA-HQ-OAR-2023-0401 in the subject line of the message.

• Fax: (202) 566-9744. Attention Docket ID No. EPA-HQ-OAR-2023-0401.

• Mail: U.S. Environmental Protection Agency, EPA Docket Center, OAR Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m.-4:30 p.m., Monday-Friday (except Federal Holidays).

Instructions: All submissions received must include the Docket ID No. for this rulemaking. Comments received may be posted without change to https://www.regulations.gov, including any personal information provided.

FOR FURTHER INFORMATION CONTACT: Mr. Matthew Spangler, Air Quality Policy Division, Office of Air Quality Planning and Standards (C504-05), Environmental Protection Agency, Research Triangle Park, NC; telephone number: (919) 541-0327; email address: spangler.matthew@epa.gov.

SUPPLEMENTARY INFORMATION: After considering the requests to extend the public comment period received from various parties, the EPA has decided to extend the public comment period for 30 days, until April 10, 2024. This extension will ensure that the public has additional time to review proposed rule.

Scott Mathias,
Director, Air Quality Policy Division, Office of Air Quality Planning and Standards.

[FR Doc. 2024-03781 Filed 2-23-24; 8:45 am]

BILLING CODE 6560-50-P